INTERNATIONAL BOUNDARY AND WATER COMMISSION, UNITED STATES AND MEXICO, UNITED STATES SECTION

Notice of Public Review Period Extension for Draft Environmental Impact Statement for Alternative Vegetation Maintenance Practices for the Lower Rio Grande Flood Control Project in Cameron, Hidalgo, and Willacy Counties, TX

AGENCY: International Boundary and Water Commission, United States and Mexico, United States Section.

ACTION: Notice of public review period extension for Draft Environmental Impact Statement.

SUMMARY: The United States Section, International Boundary and Water Commission (USIBWC), received a request from Department of Interior (DOI) on August 27, 2003 for an extension of the public review period for the Draft Environmental Impact Statement (DEIS) on Alternative Vegetation Maintenance Practices for the Lower Rio Grande Flood Control Project in Cameron, Hidalgo, and Willacy Counties, Texas. The DOI indicated they did not receive the DEIS until August 25, 2003 and requested a 45-day extension from that date. The USIBWC has extended the public comment period for the DEIS to Thursday, October 9, 2003 to accommodate DOI s request.

DATES: Written comments are now requested by October 9, 2003.

ADDRESSES: Comments should be addressed to: Carolyn Murphy, Chief, Environmental Section, CESWG-PE-PR, Department of the Army, Galveston District, Corps of Engineers, P.O. Box 1229, Galveston, Texas 77553-1229.

FOR FURTHER INFORMATION CONTACT: Mr. Douglas Echlin, Acting Chief, Environmental Management Division, USIBWC, 4171 North Mesa Street, C-100, El Paso, Texas 79902 or call (915) 832-4741, e-mail: dougechlin@ibwc.state.gov.

Dated: September 24, 2003.
Mario Lewis,
General Counsel.

[FR Doc. 03-24833 Filed 9-29-03; 8:45 am]

BILLING CODE 4710-03-P